FEDERAL COMMUNICATIONS COMMISSION

47 CFR Part 64

[CC Docket No. 91-281; FCC 17-132]

Calling Number Identification Service—Caller ID

AGENCY: Federal Communications Commission.

ACTION: Final rule; announcement of effective date.

SUMMARY: In this document, the Commission announces that the Office of Management and Budget (OMB) has approved, for a period of three years, the information collection associated with rules adopted in the Commission's document Calling Number Identification Service—Caller ID, Final Order (Final Order). This document is consistent with the Final Order, which stated that the Commission would publish a document in the Federal Register announcing the effective date of those rules.

DATES: The amendments to 47 CFR 64.1601(d)(4)(ii) and (f), published at 82 FR 56909, December 1, 2017, are effective August 22, 2018.

FOR FURTHER INFORMATION CONTACT: Richard Smith, Consumer Policy Division, Consumer and Governmental Affairs Bureau, at (717) 338-2797, or email: Richard.Smith@fcc.gov.

SUPPLEMENTARY INFORMATION: This document announces that, on July 6, 2018, OMB approved, for a period of three years, the information collection requirements contained in the Commission's Final Order, FCC 17-132, published at 82 FR 56909, December 1, 2017. The OMB Control Number is 3060-1255. The Commission publishes this notice as an announcement of the effective date of the rules. If you have any comments on the burden estimates listed below, or how the Commission can improve the collections and reduce any burdens caused thereby, please contact Cathy Williams, Federal Communications Commission, Room 1-C823, 445 12th Street SW, Washington, DC 20554. Please include the OMB Control Number, 3060-1255, in your correspondence. The Commission will also accept your comments via the internet if you send them to PRA@fcc.gov.

To request materials in accessible formats for people with disabilities (Braille, large print, electronic files, audio format), send an email to fcc504@fcc.gov or call the Consumer and Governmental Affairs Bureau at (202) 418-0530 (voice), (844) 432-2275 (videophone), or (202) 418-0432 (TTY).

Synopsis

As required by the Paperwork Reduction Act of 1995 (44 U.S.C. 3507), the FCC is notifying the public that it received OMB approval on July 6, 2018, for the information collection requirements contained in the Commission's rules at § 64.1601(d)(4)(ii) and (f).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1255.

The foregoing notice is required by the Paperwork Reduction Act of 1995, Public Law 104-13, October 1, 1995, and 44 U.S.C. 3507.

The total annual reporting burdens and costs for the respondents are as follows:

OMB Control Number: 3060-1255.

OMB Approval Date: July 6, 2018.

OMB Expiration Date: July 31, 2021.

Title: Rules and Policies Regarding Calling Number Identification Service—Caller ID, CC Docket No. 91-281.

Form Number: N/A. Type of Review: New collection. Respondents: Business or other for-profit entities.

Number of Respondents and Responses: 46,291 respondents; 1,705 responses.

Estimated Time per Response: 0.083 hours (5 minutes).

Frequency of Response: Monthly and on-going reporting requirements.

Obligation to Respond: Required to obtain or retain benefit. The statutory authority for the information collection requirements is found at sections 201(b) of the Communications Act of 1934, as amended, 47 U.S.C. 201(b) and section 222, 47 U.S.C. 222. The Commission's implementing rules are codified at 47 CFR 64.1600-64.1601.

Total Annual Burden: 142 hours.

Total Annual Cost: No cost.

Nature and Extent of Confidentiality: An assurance of confidentiality is not offered because this information collection does not require the collection of personally identifiable information from individuals.

Privacy Impact Assessment: No impact(s).

Needs and Uses: The Commission amended rules requiring that carriers honor privacy requests to state that § 64.1601(b) of the Commission's rules shall not apply when calling party number (CPN) delivery is made in connection with a threatening call. Upon report of such a threatening call by law enforcement on behalf of the threatened party, the carrier will provide any CPN of the calling party to law enforcement and, as directed by law enforcement, to security personnel for the called party for the purpose of identifying the party responsible for the threatening call. Carriers now have a recordkeeping requirement in order to quickly provide law enforcement with information relating to threatening calls.

The Commission also amended rules to allow non-public emergency services to receive the CPN of all incoming calls from blocked numbers requesting assistance. The Commission believes amending its rules to allow non-public emergency services access to blocked Caller ID promotes the public interest by ensuring timely provision of emergency services without undermining any countervailing privacy interests. Carriers now have a recordkeeping requirement in order to provide emergency service providers with the information they need to assist callers.

Federal Communications Commission.
Marlene Dortch,
Secretary, Office of the Secretary.

[FR Doc. 2018-15654 Filed 7-20-18; 8:45 am]

BILLING CODE 6712-01-P